DEPARTMENT OF COMMERCE

International Trade Administration

[A-428-825, A-475-824, A-588-845, A-580-834, C-580-835, A-583-831, A-412-818]

Stainless Steel Sheet and Strip in Coils From Germany, Italy, Japan, Korea, Taiwan and the United Kingdom; Extension of Time Limit for the Final Results of Sunset Reviews of Antidumping and Countervailing Duty Orders

AGENCY: Import Administration, International Trade Administration, Department of Commerce.

ACTION: Notice of extension of time limit for the final results of sunset reviews of antidumping and countervailing duty orders: Stainless steel sheet and strip in coils from Germany, Italy, Japan, Korea, Taiwan and the United Kingdom.

SUMMARY: The Department of Commerce (“the Department”) is extending the time limit for its final results in the sunset reviews of the antidumping duty orders on stainless steel sheet and strip in coils (“SSSS”) from Germany, Italy, Japan, Korea, Taiwan and the United Kingdom, and the countervailing duty order on SSSS from Korea. The Department intends to issue final results of these sunset reviews on or about November 15, 2004.

EFFECTIVE DATE: October 12, 2004.

FOR FURTHER INFORMATION CONTACT: Martha Douthit or Hilary Sadler, Import Administration, International Trade Administration, U.S. Department of Commerce, 14th Street & Constitution Avenue, NW., Washington, DC 20230; telephone: (202) 482-5050.

Extension of Final Results of Reviews

On June 1, 2004, the Department initiated sunset reviews of the antidumping duty orders on SSSS from Germany, Italy, Japan, Korea, Taiwan and the United Kingdom, and the countervailing duty order on SSSS from Korea. See Initiation of Five-Year (Sunset) Reviews, 69 FR 30874 (June 1, 2004). The Department, in these proceedings, determined that it would conduct expedited sunset reviews of these orders based on inadequate responses to the notice of initiation from respondent interested parties. The Department's final results of these reviews were scheduled for September 29, 2004. The Department, however, needs additional time to: Consider issues related to the appropriate margin(s) of dumping likely to prevail if the order is revoked which the Department will provide to the International Trade Commission, with respect to the antidumping duty orders on SSSS from Germany, Italy, Korea, Taiwan and the United Kingdom; take into account the large number of companies, with respect to the antidumping order on SSSS from Japan; and address the large number of issues and companies, with respect to the countervailing duty order on SSSS from Korea. Thus, the Department intends to issue the final results on or about November 15, 2004, in accordance with sections 751(c)(5)(B) and 751(c)(5)(C)(i), (ii) and (iii) of the Tariff Act of 1930, as amended.

Dated: September 29, 2004.
James J. Jochum,
Assistant Secretary for Import Administration.

[FR Doc. E4-2564 Filed 10-8-04; 8:45 am]

BILLING CODE 3510-DS-P